DEPARTMENT OF THE TREASURY

Submission for OMB Review; Comment Request

May 15, 2013.

The Department of the Treasury will submit the following information collection requests to the Office of Management and Budget (OMB) for review and clearance in accordance with the Paperwork Reduction Act of 1995, Public Law 104-13, on or after the date of publication of this notice.

DATES: Comments should be received on or before June 20, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-0138.

Type of Review: Extension without change of a currently approved collection.

Title: U.S. Departing Alien Income Tax Statement.

Form: 2063.

Abstract: Form 2063 is used by a departing resident alien against whom a termination assessment has not been made, or a departing non- resident alien who has no taxable income from United States sources, to certify that they have satisfied all U.S. income tax obligations. The data is used by the IRS to certify that departing aliens have complied with U.S. income tax laws.

Affected Public: Individuals or Households.

Estimated Annual Burden Hours: 17,049.

OMB Number: 1545-0236.

Type of Review: Extension without change of a currently approved collection.

Title: Occupational Tax and Registration Return for Wagering.

Form: 11-C

Abstract: Form 11-C is used to register persons accepting wagers (IRC section 4412). IRS uses this form to register the respondent, collect the annual stamp tax (IRC section 4411), and to verify that the tax on wagers is reported on Form 730.

Affected Public: Private Sector: Businesses or other for-profits.

Estimated Annual Burden Hours: 81,190.

OMB Number: 1545-1130.

Type of Review: Extension without change of a currently approved collection.

Title: Special Loss Discount Account and Special Estimated Tax Payments for Insurance Companies.

Form: 8816.

Abstract: Form 8816 is used by insurance companies claiming an additional deduction under IRC section 847 to reconcile their special loss discount and special estimated tax payments, and to determine their tax benefit associated with the deduction. The information is needed by the IRS to determine that the proper additional deduction was claimed and to insure the proper amount of special estimated tax was computed and deposited.

Affected Public: Private Sector: Businesses or other for-profits.

Estimated Annual Burden Hours: 19,830.

OMB Number: 1545-1299.

Type of Review: Extension without change of a currently approved collection.

Title: TD 8459—Settlement Funds (REG-IA-54-90).

Abstract: The reporting requirements affect taxpayers that are qualified settlement funds; they will be required to file income tax returns, estimated income tax returns, and withholding tax returns. The information will facilitate taxpayer examinations.

Affected Public: Private Sector: Businesses or other for-profits.

Estimated Annual Burden Hours: 3,542.

OMB Number: 1545-1451.

Type of Review: Extension without change of a currently approved collection.

Title: TD 8712—Definition of Private Activity Bonds.

Abstract: Section 103 provides generally that interest on certain State or local bonds is excluded from gross income. However, under sections 103(b)(1) and 141, interest on private activity bonds (other than qualified bonds) is not excluded. The regulations provide rules, for purposes of section 141, to determine how bond proceeds are measured and used and how debt service for those bonds is paid or secured.

Affected Public: State, Local, and Tribal Governments.

Estimated Annual Burden Hours: 30,100.

OMB Number: 1545-1724.

Type of Review: Extension without change of a currently approved collection.

Title: TD 9076—Special Rules Under Section 417(a)(7) for Written Explanations Provided by Qualified Retirement Plans After Annuity Starting Dates (REG-109481-99).

Abstract: The collection of information requirement in sections 1.417(e)-1(b)(3)(iv)(B) and 1.417(e)-1(b)(3)(v)(A) is required to ensure that a participant and the participant's spouse consent to a form of distribution from a qualified plan that may result in reduced periodic payments.

Affected Public: Individuals or Households.

Estimated Annual Burden Hours: 12,500.

OMB Number: 1545-1732.

Type of Review: Extension without change of a currently approved collection.

Title: TD 8995—Mid-Contract Change in Taxpayer (REG-105946-00).

Abstract: The information is needed by taxpayers who assume the obligation to account for the income from long-term contracts as the result of certain nontaxable transactions.

Affected Public: Private Sector: Businesses or other for-profits.

Estimated Annual Burden Hours: 10,000.

OMB Number: 1545-2154.

Type of Review: Extension without change of a currently approved collection.

Title: Short Form Request for Individual Tax Return Transcript.

Form: 4506T-EZ, 4506T-EZ (SP).

Abstract: Form 4506T-EZ is used to request tax return transcripts. A taxpayer may designate a third party to receive the transcript.

Affected Public: Individuals or Households.

Estimated Annual Burden Hours: 870,000.

Dawn D. Wolfgang,
Treasury PRA Clearance Officer.

[FR Doc. 2013-11983 Filed 5-20-13; 8:45 am]

BILLING CODE 4830-01-P